DEPARTMENT OF DEFENSE

Department of the Army; Corps of Engineers

Intergovernmental Agreement Among the United States Department of the Army, the United States Department of the Interior, and the State of Florida Establishing Interim Restoration Goals for the Comprehensive Everglades Restoration Plan

AGENCY: Department of the Army, U.S. Army Corps of Engineers, DoD.

ACTION: Notice of availability.

SUMMARY: The Army Corps of Engineers, the Department of the Interior and the State of Florida have established the interim goals for the Comprehensive Everglades Restoration Plan through the Interim Goals Agreement as required by section 385.38(d) of the Programmatic Regulations for the Comprehensive Everglades Restoration Plan. Interim goals are a mean by which restoration success of the Comprehensive Everglades Restoration Plan may be evaluated at specific points by agency managers, the State of Florida, the Congress throughout the overall planning and implementation process. This intergovernmental Agreement establishing the interim goals was signed on April 27, 2007.

ADDRESSES: A copy of the Interim Goals Agreement can be obtained by request from the U.S. Army Corps of Engineers, Jacksonville District, RECOVER, ATTN: Rebecca Weiss, 701 San Marco Blvd., Jacksonville, FL 32207-8175 or by e-mail to: Rebecca.j.weiss@usace.army.mil. In addition, the Intergovernmental agreement can be found at the following Web site: http:/www.evergladesplan.org/pm/progr_regs_igit_agreements.aspx.

FOR FURTHER INFORMATION CONTACT: Rebecca Weiss, (904) 232-1577.

SUPPLEMENTARY INFORMATION: Section 385.38(d) of the Programmatic Regulations for the Comprehensive Everglades Restoration Plan sets forth the process for establishing the interim goals for the Comprehensive Everglades Restoration Plan. This section provides that the Interim Goals Agreements be developed by the Secretary of the Army, the Secretary of the Interior, and the Governor of the State of Florida in consultation with the Miccosukee Tribe of Indians of Florida, the Seminole Tribe of Florida, the Environmental Protection Agency, the Department of Commerce, other Federal, State, and local agencies, and the south Florida Ecosystem Restoration Task Force. In considering the interim goals to be indicated in the Interim Goals Agreement, the Secretary of the Army, Secretary of the Interior and the Governor of the State of Florida are required to consider the technical recommendations of RECOVER and any modifications to those recommendations by the Corps of Engineers, the Department of the Interior or the South Florida Water Management District. The programmatic regulations required that the Secretary of the Army afford the public an opportunity to comment on the proposed Interim Goals Agreement prior to its approval and notice in the Federal Register when the agreement has been finalized. The draft final of the Intergovernmental agreement was published in the Federal Register on November 3, 2006 (71 FR 64686). Public comments on the draft intergovernmental agreements establishing interim goals were accepted through December 4, 2006. The final intergovernmental agreement establishing the interim goals was signed on April 27, 2007. An electronic copy of the document is available at: http://ww.evergladesplan.org/pm/progr_regs_igit_agreements.aspx.

Brenda S. Bowen,
Army Federal Register Liaison Officer.

[FR Doc. 07-4377 Filed 9-6-07; 8:45 am]

BILLING CODE 3710-AJ-M